DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2009, there were three applications approved. This notice also includes information on one application, approved in January 2009, inadvertently left off the January 2009 notice. Additionally, seven approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Yuma County Airport Authority, Yuma, Arizona.

Application Number: 09-03-C-00-NYL.

Application Type: Impose and use a PFC.

PFC Level: $4.50.

Total PFC Revenue Approved In This Decision: $1,251,361.

Earliest Charge Effective Date: January 1, 2013.

Estimated Charge Expiration Date: July 1, 2017.

Class Of Air Carriers Not Required To Collect PFC'S:

Nonscheduled/on-demand air carriers filing FAA Form 1800-31.

Determination: Approved. Based on information contained in the public agency's application, the FAA has determined that the approved class accounts for less than 1 percent of the total annual enplanements at Yuma Marine Corps Air Station/Yuma International Airport.

Brief Description of Projects Approved for Collection and Use:

Cargo apron rehabilitation and expansion.

Airport security.

Rehabilitate apron and taxilanes.

Conduct airport master plan.

Decision Date: January 30, 2009.

FOR FURTHER INFORMATION CONTACT: Darlene Williams, Los Angeles Airports District Office, (310) 725-3625.

Public Agency: City of Roswell, New Mexico.

Application Number: 09-04-C-00-ROW. Application Type: Impose and use a PFC.

PFC Level: $4.50.

Total PFC Revenue Approved in this Decision: $510,594.

Earliest Charge Effective Date: April 1, 2009.

Estimated Charge Expiration Date: December 1, 2013.

Class Of Air Carriers Not Required To Collect PFC's:

None.

Brief Description of Project Approved for Collection and Use:

Terminal renovation and expansion.

Enhanced taxiway markings.

Deicing equipment.

Air terminal fire alarm upgrade.

Passenger terminal seating.

Rehabilitate taxiways C and H: design and construction.

Relocate airport beacon and tower.

Rehabilitate and enhance security system and fencing.

Install airport entrance sign.

Expand and rehabilitate public parking lot—non-revenue.

Airport master plan update.

Acquire passenger loading ramp.

Acquire snow removal vehicle.

Runway rubber removal.

Acquire electric ground power unit.

Rehabilitate terminal apron.

Rehabilitate runway 3/21.

PFC administration costs.

Decision Date: February 3, 2009.

FOR FURTHER INFORMATION CONTACT: Andy Velayos, Louisiana, New Mexico Airports Development Office, (817) 222-5647.

Public Agency: Westchester County Department of Transportation—Airport Division, White Plains, New York.

Application Number: 09-05-C-00-HPN.

Application Type: Impose and use a PFC. PFC Level: $4.50.

Total PFC Revenue Approved In This Decision: $18,000,000.

Earliest Charge Effective Date: April 1, 2009.

Estimated Charge Expiration Date: August 1, 2013.

Class of Air Carriers Not Required to Collect PFC's:

Nonscheduled/on-demand air carriers filing FAA Form 1800-31.

Determination: Approved. Based on information contained in the public agency's application, the FAA has determined that the approved class accounts for less than 1 percent of the total annual enplanements at Westchester County Airport.

Brief Description of Projects Approved for Collection and Use:

In-line baggage screening facility (design and construction).

Conveyance and disposal system for aircraft deicing fluid contaminated water (design and construction).

Decision Date: February 24, 2009.

FOR FURTHER INFORMATION CONTACT: Andrew Brooks, New York Airports District Office, (516) 227-3816.

Public Agency: City of Chicago, Department of Aviation, Chicago, Illinois.

Application Number: 08-21-C-00-ORD.

Application Type: Impose and use a PFC.

PFC Level: $4.50.

Total PFC Revenue Approved in This Decision: $231,690,213.

Earliest Charge Effective Date: July 1, 2024.

Estimated Charge Expiration Date: May 1, 2026.

Class Of Air Carriers Not Required To Collect PFC's:

Air taxi.

Determination: Approved. Based on information contained in the public agency's application, the FAA has determined that the approved class accounts for less than 1 percent of the total annual enplanements at Chicago O'Hare International Airport.

Brief Description of Project Approved for Collection and Use at a $4.50 PFC Level:

Airfield design.

Brief Description of Projects Partially Approved for Collection and Use at a $3.00 PFC Level:

Western terminal area planning.

Determination: The FAA has determined that the City did not provide enough information for justification of the line items “forecast review/derivative forecasts,” “airfield simulation,” and “supplemental studies revenue enhancement/new technologies” in the PFC application. Therefore, those line items, totaling $570,960 in PFC revenue, were not approved for use of PFC revenue.

Airport access road improvements.

Determination: After review of the information provided by the City, the FAA determined that portions of the roadways included in the project description are ineligible for PFC funding.

Airport transit system (ATS) vehicle acquisition and system improvements.

Determination: After review of the information provided by the City, the FAA determined that there was a mathematical error in the amount the City originally requested for purchase of nine ATS cars. Therefore, the FAA's approved amount was less than the amount originally requested by the City.

Decision Date: February 26, 2009.

FOR FURTHER INFORMATION CONTACT: Jack Delaney, Chicago Airports District Office, (847) 294-7875.

Amendments to PFC Approvals
Amendment No. city, state | Amendment approved date | Original approved net PFC revenue | Amended approved net PFC revenue | Original estimated charge exp. date | Amended estimated charge exp. date
95-01-C-03-ABY Albany, GA | 2/10/09 | $362,561 | $348,383 | 06/01/98 | 06/01/98
98-02-C-03-ABY Albany, GA | 2/10/09 | 540,050 | 540,050 | 08/01/03 | 08/01/03
98-02-C-04-ABY Albany, GA | 2/10/09 | 540,050 | 539,645 | 08/01/03 | 08/01/03
02-06-C-07-MSY New Orleans, LA | 2/12/09 | 276,286,494 | 271,336,494 | 12/01/17 | 12/01/17
99-04-C-05-PNS Pensacola, FL | 2/18/09 | 15,217,577 | 15,165,298 | 09/01/07 | 09/01/07
93-06-U-03-PNS Pensacola, FL | 2/18/09 | NA | NA | 09/01/07 | 09/01/07
95-01-C-06-MCI Kansas City, MO | 2/23/09 | 295,096,669 | 277,485,571 | 02/01/12 | 12/01/10

Issued in Washington, DC, on July 16, 2009.
Joe Hebert,
Manager, Financial Analysis and Passenger Facility Charge Branch.

[FR Doc. E9-17450 Filed 7-23-09; 8:45 am]

BILLING CODE 4910-13-M